FEDERAL MARITIME COMMISSION

Notice of Request for Additional Information

The Commission gives notice that it has formally requested that the parties to the below listed agreements provide additional information pursuant to 46 U.S.C. 40304(d). This action prevents the agreements from becoming effective as originally scheduled. Interested parties may file comments within fifteen (15) days after publication of this notice appears in the Federal Register.

Agreement No.: 201292.

Title: Puerto Nuevo Terminals LLC Cooperative Working Agreement.

Parties: Luis Ayala Colon and Puerto Rico Terminals.

Agreement No.: 201293.

Title: Georgia—South Carolina Marine Terminal Operator Cooperative Working Agreement.

Parties: Ports America Florida, Inc.; SSA Atlantic, LLC; and Ceres Marine Terminals Inc.

By Order of the Federal Maritime Commission.
Dated: May 16, 2019.
Rachel Dickon,
Secretary.

[FR Doc. 2019-10624 Filed 5-21-19; 8:45 am]

BILLING CODE 6731-AA-P